DEPARTMENT OF DEFENSE

Department of the Navy

[Docket ID: USN-2009-0012]

Privacy Act of 1974; System of Records

AGENCY: U.S. Marine Corps, DoD.

ACTION: Notice to alter a system of records.

SUMMARY: The U.S. Marine Corps is proposing to alter system of records notice to its existing inventory of records systems subject to the Privacy Act of 1974, (5 U.S.C. 552a), as amended.

DATES: This proposed action will be effective without further notice on April 22, 2009 unless comments are received which result in a contrary determination.

ADDRESSES: Send comments to Headquarters, U.S. Marine Corps, FOIA/PA Section (ARSF), 2 Navy Annex, Room 3134, Washington, DC 20380-1775.

FOR FURTHER INFORMATION CONTACT: Ms. Tracy Ross at (703) 614-4008.

SUPPLEMENTARY INFORMATION: The U.S. Marine Corps system of records notices subject to the Privacy Act of 1974, (5 U.S.C. 552a), as amended, have been published in the Federal Register and are available from the address above.

The proposed system report, as required by 5 U.S.C. 552a(r), of the Privacy Act of 1974, as amended, was submitted on March 16, 2009, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: March 18, 2009.
Morgan E. Frazier,
Alternate OSD Federal Register Liaison Officer, Department of Defense.

M01040-2

SYSTEM NAME:

Marine Corps Total Force System (MCTFS) Records (September 9, 1996, 61 FR 47503).

CHANGES:

* * * * *

SYSTEM LOCATION:

Delete entry and replace with “Primary locations: Defense Mega-Center, St. Louis, MO 63120-1798.

Defense Finance and Accounting Service—Kansas City Center, 1500 East Bannister Road, Kansas City, MO 64197-0001.

Technology Services Organization (TSO), 1500 East Bannister Road, Kansas City, MO 64197-0001.

Manpower Information Systems Support Activity (MISSA), 1500 East Bannister Road, Kansas City, MO 64197-0001.

DECENTRALIZED SEGMENTS:

Manpower Information System Support Office-02, Marine Corps Base, Camp LeJeune NC 28542-5000.

Manpower Information System Support Office-03, Marine Corps Base, Camp Pendleton, CA 92055-5000.

Manpower Information System Support Office-06, Marine Corps Base, Hawaii, Kaneohe Bay, HI 96863-5000.

Manpower Information System Support Office-09, Headquarters, U.S. Marine Corps, Washington, DC 20380-1775.

Manpower Information System Support Office-16 and 17, Marine Corps Support Activity, Kansas City, MO 64197-0001.

Manpower Information System Support Office-11, Headquarters, Washington, DC 20380-1775.

Manpower Information System Support Office-27, Marine Corps Base, Camp S.D. Butler, Okinawa, JA, FPO AP 98773-5001.”

CATEGORIES OF INDIVIDUALS COVERED BY THE SYSTEM:

Delete entry and replace with “Civilians and other services personnel along with Active, Reserve, and retired Marines personnel.”

* * * * *

AUTHORITY FOR MAINTENANCE OF THE SYSTEM:

Delete entry and replace with “10 U.S.C. 5013. Secretary of the Navy; 10 U.S.C. 5041, Headquarters, Marine Corps: function; composition and E.O. 9397 (SSN).”

PURPOSE(S):

Delete entry and replace with “The Marine Corps Total Force System (MCTFS) is the single, integrated, personnel, and pay system supporting both Active Duty and Reserve components. The system also includes the capability to report certain entries to enhance personnel management for civilians, other service personnel, retired Marines. In addition, it will provide the necessary management reports.”

ROUTINE USES OF RECORDS MAINTAINED IN THE SYSTEM, INCLUDING CATEGORIES OF USERS AND THE PURPOSES OF SUCH USES:

Delete entry and replace with “In addition to those disclosures generally permitted under 5 U.S.C. 552a(b) of the Privacy Act, these records or information contained therein may specifically be disclosed outside the DoD as a routine use pursuant to 5 U.S.C. 552a(b)(3) as follows:

To officials and employees of the Attorney General in connection with litigation, law enforcement or other matters under the legal representative of the Executive Branch agencies.

To officials and employees of the American Red Cross and the Navy Relief Society in the performance of their duties. Access will be limited to those portions of the member's record required to effectively assist the member.

To officials and employees of federal, state and local government through Official request for information with respect to law enforcement, investigatory procedures, criminal prosecution, civil court action and regulatory order.

The ‘Blanket Routine Uses’ set forth at the beginning of the Marine Corps' compilation of systems of records notices apply to this system.”

* * * * *

STORAGE:

Delete entry and replace with “Electronic storage media and paper records in file folders.”

RETRIEVABILITY:

Delete entry and replace with “By name and/or Social Security Number (SSN).”

SAFEGUARDS:

Delete entry and replace with “Login to systems and network is by using the DoD Common Access Card (CAC). Public Key Infrastructure (PKI) network login is required and allows for documents to be digitally signed and encrypted and/or the receiving of encrypted mail. All personnel and staff use the CAC and PKI to login to their computer, digitally sign and encrypt email and other documents and to establish secure internet sessions. Building management employs security guards; building is locked nights and Holidays. Authorized persons may enter and leave the building during nonworking hours but must sign in and out. Records maintained in areas assessable only to authorized personnel who has a specific and recorded need-to-know. Online data sets (both type and disc) pertaining to personnel information are password protected, areas are controlled and access lists are used. The files are also protected at a level appropriate to the type of information being accessed.”

RETENTION AND DISPOSAL:

Delete entry and replace with “Magnetic records are maintained on all military personnel and certain civilians while they are in service or employed by the service and for a period of 11 months after separation. Paper and film records are maintained for a period of 10 years after the final transaction, then destroyed.”

SYSTEM MANAGER(S) AND ADDRESS:

Delete entry and replace with “The Commandant of the Marine Corps, (Code MIF), Headquarters, U.S. Marine Corps, Washington, DC 20380-1775.

Director, Defense Finance and Accounting Service—Cleveland Center, 1240 E. 9th Street, Cleveland, OH 44199-2055.

Director, Manpower Information Systems Support Activity, 1500 East Bannister Road, Kansas City, MO 64197-0001.”

NOTIFICATION PROCEDURE:

Delete entry and replace with “Individuals (Active Duty/Reserve Members) seeking to determine whether information about themselves is contained in this system of records should address written inquiries to the member's local disbursing office, or reviewed on-line with Marine Corps Total Force System or Marine-on-Line. Official mailing addresses are published as an appendix to the Air Force's compilation of systems of records notices.

Retired Members should address written inquiries to the Commandant of the Marine Corps, (Code MIF), Headquarters. U.S. Marine Corps, Washington, DC 20380-1775, or contact Director, Defense Finance and Accounting Service—Cleveland Center, 1240 E. 9th Street, Cleveland, OH 44199-2055.

Requests should contain individual's name, Social Security Number (SSN), and the request must be signed.”

RECORD ACCESS PROCEDURES:

Delete entry and replace with “Individuals (Active Duty/Reserve Members) seeking access to information about themselves contained in this system of records should address written inquiries to the member's local disbursing office, or reviewed on-line with Marine Corps Total Force System or Marine-on-Line. Official mailing addresses are published as an appendix to the Air Force's compilation of systems of records notices.

Retired Members should address written inquiries to the Commandant of the Marine Corps, (Code MIF), Headquarters. U.S. Marine Corps, Washington, DC 20380-1775, or contact Director, Defense Finance and Accounting Service—Cleveland Center, 1240 E. 9th Street, Cleveland, OH 44199-2055.

Requests should contain individual's name, Social Security Number (SSN), and the request must be signed.”

CONTESTING RECORD PROCEDURES:

Delete entry and replace with “The USMC rules for contesting contents and appealing initial agency determinations are published in Secretary of the Navy Instruction 5211.5E; Marine Corps Order P5211.2; 32 CFR part 701; or may be obtained from the system manager.”

* * * * *

M01040-2

SYSTEM NAME:

Marine Corps Total Force System (MCTFS) Records.

SYSTEM LOCATION:

Primary locations—Defense Mega-Center, St. Louis, MO 63120-1798.

Defense Finance and Accounting Service-Kansas City Center, 1500 East Bannister Road, Kansas City, MO 64197-0001.

Technology Services Organization (TSO), 1500 East Bannister Road, Kansas City, MO 64197-0001.

Manpower Information Systems Support Activity (MISSA), 1500 East Bannister Road, Kansas City, MO 64197-0001.

Decentralized segments: Manpower Information System Support Office-02, Marine Corps Base, Camp LeJeune NC 28542-5000.

Manpower Information System Support Office-03, Marine Corps Base, Camp Pendleton, CA 92055-5000.

Manpower Information System Support Office-06, Marine Corps Base, Hawaii, Kaneohe Bay, HI 96863-5000.

Manpower Information System Support Office-09, Headquarters, U.S. Marine Corps, Washington, DC 20380-1775.

Manpower Information System Support Office-16 and 17, Marine Corps Support Activity, Kansas City, MO 64197-0001.

Manpower Information System Support Office-11, Headquarters, Washington, DC 20380-1775.

Manpower Information System Support Office-27, Marine Corps Base, Camp S.D. Butler, Okinawa, JA, FPO AP 98773-5001.

CATEGORIES OF INDIVIDUALS COVERED BY THE SYSTEM:

Civilians and other services personnel along with Active, Reserve, and retired Marines personnel.

CATEGORIES OF RECORDS IN THE SYSTEM:

File contains personnel and pay data which includes, but is not limited to individual's name, rank/grade, Social Security Number (SSN), date of birth, citizenship, marital status, home of record, records of emergency data, enlistment contract or officer acceptance form identification, duty status, component code, population group, sex, ethnic group, duty information duty station/personnel assignment, unit information, security investigation date/type, leave account information, separation document code, test scores/information, language proficiency, military/civilian/off-duty education, dependents information including their Social Security Numbers (SSN), training information to include marksmanship data, physical fitness data, swim qualifications, military occupational specialties (MOS), military skills and schools, awards, combat tour information, aviation/pilot/flying time data, reserve drill information, reserve unit information, lineal precedence number, limited duty officer/warrant officer footnote, temporary additional duty data, overseas deployment data, limited medical data, conduct and proficiency marks, years in service, promotional data, weight control and military appearance data, commanding officer assignment/relief data, joint military occupational specialty data. Pay data included leave and earnings statement which may include base pay, allowances, allotments, bond authorization, health care coverage, dental coverage (if applicable), special pay and bonus data, federal and state withholding/income tax data, Federal Deposit Insurance Corporation contributions, Medicare, Social Security and Service members' Group Life Insurance deductions, leave account, wage and summaries, reserve drill pay, reserve Active Training (AT) pay, and other personnel/pay management data.

AUTHORITY FOR MAINTENANCE OF THE SYSTEM:

10 U.S.C. 5013, Secretary of the Navy; 10 U.S.C. 5041, Headquarters, Marine Corps: function; composition and E.O. 9397 (SSN).

PURPOSE(S):

The Marine Corps Total Force System (MCTFS) is the single, integrated, personnel, and pay system supporting both Active Duty and Reserve components. The system also includes the capability to report certain entries to enhance personnel management for civilians, other service personnel, retired Marines. In addition, it will provide the necessary management reports.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

To officials and employees of the Attorney General in connection with litigation, law enforcement or other matters under the legal representative of the Executive Branch agencies.

To officials and employees of the American Red Cross and the Navy Relief Society in the performance of their duties. Access will be limited to those portions of the member's record required to effectively assist the member.

To officials and employees of federal, state and local government through Official request for information with respect to law enforcement, investigatory procedures, criminal prosecution, civil court action and regulatory order.

The ‘Blanket Routine Uses’ set forth at the beginning of the Marine Corps' compilation of systems of records notices apply to this system.

POLICIES AND PRACTICES FOR STORING, RETRIEVING, ACCESSING, RETAINING, AND DISPOSING OF RECORDS IN THE SYSTEM:

STORAGE:

Electronic storage media and paper records in file folders.

RETRIEVABILITY:

By name and/or Social Security Number (SSN).

SAFEGUARDS:

Login to systems and network is by using the DoD Common Access Card (CAC). Public Key Infrastructure (PKI) network login is required and allows for documents to be digitally signed and encrypted and/or the receiving of encrypted mail. All personnel and staff use the CAC and PKI to login to their computer, digitally sign and encrypt e-mail and other documents and to establish secure Internet sessions. Building management employs security guards; building is locked nights and Holidays. Authorized persons may enter and leave the building during nonworking hours but must sign in and out. Records are maintained in areas assessable only to authorized personnel who has a specific and recorded need-to-know. Online data sets (both type and disc) pertaining to personnel information are password protected, areas are controlled and access lists are used. The files are also protected at a level appropriate to the type of information being accessed.

RETENTION AND DISPOSAL:

Magnetic records are maintained on all military personnel and certain civilians while they are in service or employed by the service and for a period of 11 months after separation. Paper and film records are maintained for a period of 10 years after the final transaction and then destroyed.

SYSTEM MANAGER(S) AND ADDRESS:

The Commandant of the Marine Corps (Code MIF), Headquarters, U.S. Marine Corps, Washington, DC 20380-1775.

Director, Defense Finance and Accounting Service—Cleveland Center, 1240 E. 9th Street, Cleveland, OH 44199-2055.

Director, Manpower Information Systems Support Activity, 1500 East Bannister Road, Kansas City, MO 64197.

NOTIFICATION PROCEDURES:

Individuals (Active Duty/Reserve Members) seeking to determine whether information about themselves is contained in this system of records should address written inquiries to the member's local disbursing office, or reviewed on-line with Marine Corps Total Force System or Marine-on-Line. Official mailing addresses are published as an appendix to the Air Force's compilation of systems of records notices.

Retired Members should address written inquiries to the Commandant of the Marine Corps (Code MIF), Headquarters, U.S. Marine Corps, Washington, DC 20380-1775, or contact Director, Defense Finance and Accounting Service—Cleveland Center, 1240 E. 9th Street, Cleveland, OH 44199-2055.

Requests should contain individual's name, Social Security Number (SSN), and the request must be signed.

RECORD ACCESS PROCEDURES:

Individuals (Active Duty/Reserve Members) seeking access to information about themselves contained in this system of records should address written inquiries to the member's local disbursing office, or reviewed on-line with Marine Corps Total Force System or Marine-on-Line. Official mailing addresses are published as an appendix to the Air Force's compilation of systems of records notices.

Retired Members should address written inquiries to the Commandant of the Marine Corps (Code MIF), Headquarters, U.S. Marine Corps, Washington, DC 20380-1775, or contact Director, Defense Finance and Accounting Service—Cleveland Center, 1240 E. 9th Street, Cleveland, OH 44199-2055.

Requests should contain individual's name, Social Security Number (SSN), and the request must be signed.

CONTESTING RECORD PROCEDURES:

The USMC rules for contesting contents and appealing initial agency determinations are published in Secretary of the Navy Instruction 5211.5; Marine Corps Order P5211.2; 32 CFR part 701; or may be obtained from the system manager.

RECORD SOURCE CATEGORIES:

The USMC rules for contesting contents and appealing initial agency determinations are published in Secretary of the Navy Instruction 5211.5E; Marine Corps Order P5211.2; 32 CFR part 701; or may be obtained from the system manager.

EXEMPTIONS CLAIMED FOR THE SYSTEM:

None.

[FR Doc. E9-6278 Filed 3-20-09; 8:45 am]

BILLING CODE 5001-06-P